DEPARTMENT OF THE INTERIOR

National Park Service

[NPS-WASO-NAGPRA-12263; 2200-1100-665]

Notice of Intent To Repatriate Cultural Items: U.S. Department of the Interior, Bureau of Indian Affairs, Washington, DC

AGENCY: National Park Service, Interior.

ACTION: Notice.

SUMMARY: The U.S. Department of the Interior, Bureau of Indian Affairs, in consultation with the appropriate Indian tribes, has determined that the cultural items meet the definition of unassociated funerary objects and repatriation to the Indian tribes stated below may occur if no additional claimants come forward. Representatives of any Indian tribe that believes itself to be culturally affiliated with the cultural items may contact the U.S. Department of the Interior, Bureau of Indian Affairs.

DATES: Representatives of any Indian tribe that believes it has a cultural affiliation with the cultural items should contact the U.S. Department of the Interior, Bureau of Indian Affairs at the address below by April 1, 2013.

ADDRESSES: Anna Pardo, Museum Program Manager/NAGPRA Coordinator, U.S. Department of the Interior, Indian Affairs, 12220 Sunrise Valley Drive, Room 6084, Reston, VA 20191, telephone (703) 390-6343.

SUPPLEMENTARY INFORMATION: Notice is here given in accordance with the Native American Graves Protection and Repatriation Act (NAGPRA), 25 U.S.C. 3005, of the intent to repatriate cultural items under the control of the U.S. Department of the Interior, Bureau of Indian Affairs, Washington, DC, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At unknown dates prior to and during 1943, cultural items were removed from a number of sites on the Gila River Indian Reservation, Pinal County, AZ, during archeological excavations. The items were reportedly found in association with human burials, but the human remains are not present in the collections. The 283 unassociated funerary objects are 144 beads, 60 ceramic bowls, 4 figurines, 51 ceramic jars, 3 mortars, 1 pipe, 11 ceramic plates, and 9 ceramic scoops.

Archeological, biological, historical, kinship, linguistic, and oral traditional evidence, as well as a cultural affiliation study, indicate that the Ak Chin Indian Community of the Maricopa (Ak Chin) Indian Reservation, Arizona; Gila River Indian Community of the Gila River Indian Reservation, Arizona; Salt River Pima-Maricopa Indian Community of the Salt River Reservation, Arizona; and the Tohono O'odham Nation of Arizona (hereafter referred to as “The Four Southern Tribes of Arizona”) all have cultural ties to the sites from which the above mentioned unassociated funerary objects were recovered.

Determinations Made by the U.S. Department of the Interior, Bureau of Indian Affairs, Washington, DC

Officials of the Bureau of Indian Affairs have determined that:

• Pursuant to 25 U.S.C. 3001(3)(B), the 283 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Four Southern Tribes of Arizona.

Additional Requestors and Disposition

Representatives of any other Indian tribe that believes itself to be culturally affiliated with the unassociated funerary objects should contact Anna Pardo, Museum Program Manager/NAGPRA Coordinator, U.S. Department of the Interior, Indian Affairs, 12220 Sunrise Valley Drive, Room 6084, Reston, VA 20191, telephone (703) 390-6343, before April 1, 2013. Repatriation of the unassociated funerary objects to The Four Southern Tribes of Arizona may proceed after that date if no additional claimants come forward.

The Bureau of Indian Affairs is responsible for notifying The Four Southern Tribes of Arizona that this notice has been published.

Dated: February 1, 2013.
Melanie O'Brien,
Acting Manager, National NAGPRA Program.

[FR Doc. 2013-04780 Filed 2-28-13; 8:45 am]

BILLING CODE 4312-50-P